FEDERAL HOUSING FINANCE BOARD

Sunshine Act Meeting

Announcing an Open Meeting of the Board

TIME AND DATE: 10:00 A.M., Wednesday, January 19, 2000.

PLACE: Board Room, Second Floor, Federal Housing Finance Board, 1777 F Street, N.W., Washington, D.C. 20006.

STATUS: The entire meeting will be open to the public.

MATTERS TO BE CONSIDERED DURING PORTIONS OPEN TO THE PUBLIC:

• Final Rule: Reorganization of Finance Board Regulations

Proposed Rule: Calculation of REFCorp Obligation

• Interim Final Rule: Amendments to Election Regulation

CONTACT PERSON FOR MORE INFORMATION: Elaine L. Baker, Secretary to the Board, (202) 408-2837.

William W. Ginsberg,
Managing Director.

[FR Doc. 00-1167 Filed 1-13-00; 11:45 am]

BILLING CODE 6725-01-P